DEPARTMENT OF DEFENSE

Office of the Secretary

[Docket ID DOD-2012-OS-0056]

Privacy Act of 1974; System of Records

AGENCY: Defense Intelligence Agency, DoD.

ACTION: Notice to amend a system of records.

SUMMARY: The Defense Intelligence Agency is amending a system of records notice in its existing inventory of record systems subject to the Privacy Act of 1974 (5 U.S.C. 552a), as amended.

DATES: This proposed action will be effective on June 18, 2012 unless comments are received which result in a contrary determination.

ADDRESSES: You may submit comments, identified by docket number and title, by any of the following methods:

• Federal Rulemaking Portal: http://www.regulations.gov.

Follow the instructions for submitting comments.

• Mail: Federal Docket Management System Office, 4800 Mark Center Drive; East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Theresa Lowery, Defense Intelligence Agency, DAN 1-C, 600 MacDill Blvd., Washington, DC 20340-0001 or by phone at (202) 231-1193.

SUPPLEMENTARY INFORMATION: The Defense Intelligence Agency systems of records notices subject to the Privacy Act of 1974 (5 U.S.C. 552a), as amended, have been published in the Federal Register and are available from the address in FOR FURTHER INFORMATION CONTACT.

The proposed changes to the record system being amended are set forth below. The proposed amendment is not within the purview of subsection (r) of the Privacy Act of 1974 (5 U.S.C. 552a), as amended, which requires the submission of a new or altered system report.

Dated: May 14, 2012.
Aaron Siegel,
Alternate OSD Federal Register Liaison Officer, Department of Defense.

LDIA 05-0003

system name:

Joint Intelligence Virtual University (JIVU II), (April 12, 2012, 77 FR 21974)

Changes:

* * * * *

System name:

Delete entry and replace with “Advanced Global Intelligence Learning Environment (AGILE).”

* * * * *

Categories of individuals covered by the system:

Delete entry and replace with “Federal employees, contractors and active duty service members who access AGILE in order to facilitate a training requirement.”

* * * * *

System manager(s) and address:

Delete entry and replace with “Function Lead, “Advanced Global Intelligence Learning Environment (AGILE), Directorate for Human Capital, Defense Intelligence Agency, 200 MacDill Boulevard, Washington, DC 20340-0001.”

* * * * *

[FR Doc. 2012-12027 Filed 5-17-12; 8:45 am]

BILLING CODE 5001-06-P